DEPARTMENT OF HOUSING AND URBAN DEVELOPMENT

[Docket No. FR-5500-FA-27]

Announcement of Funding Awards; Fair Housing Initiatives Program Fiscal Year 2011

AGENCY: Office of the Assistant Secretary for Fair Housing and Equal Opportunity, the Department of Housing and Urban Development, HUD.

ACTION: Announcement of funding awards.

SUMMARY: In accordance with section 102(a)(4)(C) of the Department of Housing and Urban Development Reform Act of 1989, this announcement notifies the public of funding decisions made by the Department for funding under the Notice of Funding Availability (NOFA) for the Fair Housing Initiatives Program (FHIP) for Fiscal Year (FY) 2011. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street SW., Room 5230,Washington, DC 20410. Telephone number (202) 402-7095 (this is not a toll-free number). Persons with hearing or speech impairments may access this number through TTY by calling the toll-free Federal Relay Service at (800) 877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department published its Fair Housing Initiatives Program (FHIP) NOFA on July 25, 2011 announcing the availability of approximately $40,670,850 out of the Department's FY 2011 appropriation, to be utilized for FHIP projects and activities. Funding availability for discretionary grants included: the Private Enforcement Initiative (PEI) ($26,000,000), the Education and Outreach Initiative (EOI) ($6,670,850), and the Fair Housing Organizations Initiative (FHOI) ($8,000,000). This Notice announces grant awards of approximately $40,670,850.

For the FY 2011 NOFA, the Department reviewed, evaluated and scored the applications received based on the criteria in the FY 2011 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: February 2, 2012.
John D. Trasviña,
Assistant Secretary for Fair Housing and Equal Opportunity.

Appendix A

FY 2011 Fair Housing Initiatives Program Awards
Applicant name | Contact | Region | Award amt.
Education and Outreach/Affirmatively Furthering Fair Housing Component
National Community Reinvestment Coalition, 727 15th Street NW., Suite 900, Washington, DC 20005 | David Berenbaum, 202-628-8866 | 11 | $499,664.00
Education and Outreach/General Comopnent
HAP, Inc., 322 Main Street, Springfield, MA 01105 | Carol Walker, 413-233-1668 | 1 | 117,409.00
Champlain Valley Office of Economic Opportunity, 191 North Street, Burlington, VT 05401 | Kevin Stapleton, 802-864-3334 | 1 | 125,000.00
Housing Counseling in the Monroe County Area, Inc., 75 College Avenue, Rochester, NY 14607 | Julio Saenz, 585-546-3700 | 1 | 102,577.00
Neighborhood Economic Development Advocacy Project, Inc., 176 Grand Street, Suite 300, New York, NY 10013 | Sarah Ludwig, 212-680-5100 | 2 | 125,000.00
Buffalo Urban League Inc., 15 Genesee Street, Buffalo, NY 14203 | Beverly Moore, 716-250-2402 | 2 | 58,222.00
Citizen Action for New Jersey, 744 Broad Street, Newark, NJ 07102 | Leila Amirhamzeh, 973-643-8800 | 2 | 125,000.00
Southwestern Pennsylvania Legal Services, Inc., 10 West Cherry Ave., Washington, PA 15301 | Robert Brenner, 724-225-6170 | 3 | 1,092.00
Equal Rights Center, 11 Dupont Circle NW., Suite 450, Washington, DC 20036 | Hilary Tone, 202-234-3062 | 3 | 125,000.00
Piedmont Housing Alliance, 1215 East Market Street, Suite B, Charlottesville, VA 22902 | Karen Reifenberger, 434-817-2436 | 3 | 75,822.00
Housing Opportunities Project for Excellence, Inc., 11501 NW 2nd Avenue, Miami, FL 33168 | Keenya Robertson, 305-651-4673 | 4 | 125,000.00
Fair Housing Center for the Gulf Coast of Mississippi, P.O. Box 1592, Gulfport, MS 39502 | Charmel Gaulden, 228-396-4008 | 4 | 125,000.00
JCVISION AND ASSOCIATES, Inc., P.O. Box 1972, Hinesville, GA 31310 | Dana Ingram, 912-877-4243 | 4 | 120,330.00
University of Southern Mississippi, 118 College Drive, #5157, Hattiesburg, MS 39406 | Michelle Shows, 601-266-4119 | 4 | 125,000.00
Greenville County Human Relations Commission, 301 University Ridge, Suite 1600, Greenville, SC 29601 | Sharon Smathers, 864-467-7095 | 4 | 125,000.00
Interfaith Housing Center of the Northern Suburbs, 614 Lincoln Avenue, Winnetka, IL 60093 | Gail Schechter, 847-501-5760 | 5 | 125,000.00
Oak Park Regional Housing Center, 1041 South Boulevard, Oak Park, IL 60302 | James Breymaier, 708-848-7150 | 5 | 125,000.00
Fair Housing Center of West Michigan, 20 Hall Street SE., Grand Rapids, MI 49507 | Nancy Haynes, 616-451-2980 | 5 | 125,000.00
Coalition on Homelessness and Housing in Ohio, 175 S. Third Street, Columbus, OH 43215 | Douglas Argue, 614-280-1984 | 5 | 125,000.00
Housing Opportunities Made Equal of Greater Cincinnati, Inc., 2400 Reading Road, Suite 118, Cincinnati, OH 45202 | Elizabeth Brown, 513-721-4663 | 5 | 124,893.00
Metropolitan Milwaukee Fair Housing Council, Inc., 600 East Mason Street, Milwaukee, WI 53202 | William Tisdale, 414-278-1240 | 5 | 124,730.00
Greater New Orleans Fair Housing Action Center, Inc., 404 South Jefferson Davis Parkway, New Orleans, LA 70119 | James Perry, 504-596-2100 | 6 | 125,000.00
Missouri Commission on Human Rights, 3315 W. Truman Blvd., Jefferson City, MO 65102 | Alisa Warren, 573-522-1019 | 7 | 124,675.00
Disability Law Center, 205 North 400 West, Salt Lake City, UT 84103 | Adina Zahradnikova, 801-363-1347 | 8 | 124,900.00
Inland Mediation Board, 10681 Foothill Blvd., Rancho Cucamonga, CA 91730 | Lynne Anderson, 909-984-2254 | 9 | 125,000.00
Idaho Legal Aid Services, Inc., 310 North 5th Street, Suite 101, Boise, ID 83702 | James Cook, 208-345-0106 | 10 | 96,878.00
Intermountain Fair Housing Council, Inc., 350 N. 9th Street, Suite M-200, Boise, ID 83702 | Richard Mabbutt, 208-383-0695 | 10 | 124,654.00
Fair Housing Council of Oregon, 506 SW 6th Avenue, Suite 1111, Portland, OR 97204 | Moloy Good, 503-223-8197 | 10 | 125,000.00
Education and Outreach Initiative/Higher Education Component
John Marshall Law School, 315 S. Plymouth Court, Chicago, IL 60604 | Michael Seng, 312-987-2397 | 5 | 99,668.00
Education and Outreach Initiative/Lending Component
Neighborhood Economic Development Advocacy Project, 176 Grand Street, Suite 300, New York, NY 10013 | Sarah Ludwig, 212-680-5100 | 2 | 125,000.00
Housing Counseling Services, 2410 17th Street NW., Washington, DC 20009 | Marian Siegel, 202-667-7006 | 3 | 125,000.00
Mobile Fair Housing Center, Inc., P.O. Box 161202, Mobile, AL 36616 | Teresa Bettis, 251-479-1532 | 4 | 124,998.00
Legal Aid Society of Palm Beach County, Inc., 423 Fern Street, Suite 200, West Palm Beach, FL 33401 | Robert Bertisch, 561-655-8944 | 4 | 125,000.00
Interfaith Housing Center of the Northern Suburbs, 614 Lincoln Avenue, Winnetka, IL 60093 | Gail Schechter, 847-501-5760 | 5 | 110,874.00
John Marshall Law School, 315 S. Plymouth Court, Chicago, IL 60604 | Michael Seng, 312-987-2397 | 5 | 62,568.00
Community Legal Aid Services, Inc., 50 South Main Street, Suite 800, Akron, OH 44308-1828 | Sara Strattan, 330-535-4191 | 5 | 76,654.00
Miami Valley Fair Housing Center, 21 East Babbitt Street, Dayton, OH 45405 | Jim McCarthy, 937-223-6035 | 5 | 125,000.00
Idaho Legal Aid Services, Inc., 310 N. 5th Street, Boise, ID 83702 | James Cook, 208-336-8980 | 10 | 124,906.00
Fair Housing Organizations Initiative—Continuing Development Component General
Fair Housing Partnership of Greater Pittsburgh, 2840 Liberty Avenue, Pittsburgh, PA 15222 | Peter Harvey, 412-391-2535 | 3 | 99,988.00
Housing Opportunities Made Equal of Virginia, Inc., 626 East Broad Street, Suite 400, Richmond, VA 23219 | Lorae Ponder, 804-354-0641 | 3 | 141,209.00
North Texas Fair Housing Center, 8625 King George Drive, Suite 130, Dallas, TX 75235 | Frances Espinoza, 469-941-0383 | 6 | 108,805.00
Silver State Fair Housing Council, 855 E. Fourth Street, Suite E, Reno, NV 89512 | Katherine Knister, 775-324-0990 | 9 | 324,998.00
Fair Housing Council of Oregon, 506 SW 6th Avenue, Suite 1111, Portland, OR 97204 | Moloy Good, 503-223-8197 | 10 | 325,000.00
Fair Housing Organizations Initiative/Establishing New Organizations Component
National Fair Housing Alliance, 1101 Vermont Avenue NW., Suite 710, Washington, DC 20005 | Catherine Cloud, 202-898-1661 | 8 | 1,250,000.00
Fair Housing Organizations Initiative/Mortgage Rescue Scam Component
Brooklyn Housing and Family Services, Inc., 415 Albemarle Road, Brooklyn, NY 11218 | Carol Finegan, 718-435-7585 | 2 | 325,000.00
Brooklyn Legal Services Corp. A, 256-260 Broadway, Brooklyn, NY 11211 | Gloria Ramon, 718-487-2328 | 2 | 325,000.00
Long Island Housing Services, Inc., 640 Johnson Avenue, Suite 8, Bohemia, NY 11716 | Michelle Santantonio, 631-567-5111 | 2 | 325,000.00
LSNY-Bronx Corporation (dba Legal Services NYC-Bronx), 579 Courtlandt Avenue, Bronx, NY 10451 | Justin Haines, 718-928-2894 | 2 | 325,000.00
Queens Legal Services Corporation, 89-00 Sutphin Boulevard, Suite 206, Jamaica, NY 11435 | Jennifer Ching, 347-592-2242 | 2 | 325,000.00
South Brooklyn Legal Services, Inc., 105 Court Street, Brooklyn, NY 11201 | Meghan Faux, 718-246-3276 | 2 | 325,000.00
National Community Reinvestment Coalition, 727 15th Street NW., Suite 900, Washington, DC 20005 | David Berenbaum, 202-628-8866 | 3 | 324,410.00
Lawyers' Committee for Civil Rights Under Law, 1401 New York Avenue NW., Washington, DC 20005 | Kathleen McEnerny, 202-662-8314 | 3 | 323,054.00
Miami Valley Fair Housing Center, Inc., 21 East Babbitt Street, Dayton, OH 45405 | Jim McCarthy, 937-223-6035 | 5 | 325,000.00
Houston Area Urban League, 1301 Texas, Houston, TX 77002 | Judson Robinson, 713-393-8700 | 6 | 243,179.00
Housing and Economic Rights Advocates, 1814 Franklin Street, Suite 1040, Oakland, CA 94612 | Maeve Brown, 510-271-8443 | 9 | 154,887.00
Northwest Fair Housing Alliance, 35 W. Main, Spokane, WA 99201 | Marley Hochendoner, 509-209-2667 | 10 | 325,000.00
Private Enforcement Initiative/Mortgage Rescue Scam Component
Community Legal Aid, Inc., 405 Main Street, Worcester, MA 01608 | Faye Rachlin, 508-752-3718 | 1 | 182,000.00
Legal Services NYC Staten Island, 36 Richmond Terrace, Staten Island, NY 10301 | Nancy Goldhill, 718-233-6490 | 2 | 325,000.00
LSNY-Bronx Corporation (dba Legal Services NYC-Bronx), 579 Courtlandt Avenue, Bronx, NY 10451 | Justin Haines, 718-928-2894 | 2 | 325,000.00
Queens Legal Services Corporation, 89-00 Sutphin Boulevard, Suite 206, Jamaica, NY 11435 | Jennifer Ching, 347-592-2242 | 2 | 325,000.00
South Brooklyn Legal Services, Inc., 105 Court Street, Brooklyn, NY 11201 | Meghan Faux, 718-246-3276 | 2 | 325,000.00
Westchester Residential Opportunities, Inc., 470 Mamaroneck Avenue, Suite 410, White Plains, NY 10605 | Geoffrey Anderson, 914-428-4507 | 2 | 325,000.00
National Community Reinvestment Coalition, 727 15th Street NW., Suite 900, Washington, DC 20005 | David Berenbaum, 202-628-8866 | 3 | 321,743.00
National Fair Housing Alliance, 1101 Vermont Avenue NW., Washington, DC 20005 | Catherine Cloud, 202-898-1661 | 3 | 323,591.00
Housing Opportunities Made Equal of Virginia, Inc., 626 E. Broad Street, Suite 400, Richmond, VA 23219 | Lorae Ponder, 804-354-0641 | 3 | 121,077.00
Community Legal Services of Mid-Florida, Inc., 128 Orange Avenue, Daytona Beach, FL 32114 | Suzanne Edmunds, 386-255-6573 | 4 | 325,000.00
Legal Aid Society of Palm Beach, 423 Fern Street, Suite 200, West Palm Beach, FL 33401 | Robert Bertisch, 561-655-8944 | 4 | 318,270.00
Community Reinvestment Association of North Carolina, 110 E. Geer Street, Apartment 4, Durham, NC 27701 | Joel Skillern, 919-667-1557 | 4 | 325,000.00
West Tennessee Legal Services, Inc., 210 West Main Street, Jackson, TN 38301 | John Xanthopoulos, 731-426-1311 | 4 | 325,000.00
HOPE Fair Housing Center, 2100 Manchester Road, C-1620, Wheaton, IL 60187 | Shirley Stacy, 630-690-6500 | 5 | 312,576.00
Miami Valley Fair Housing Center, Inc., 21 East Babbitt Street, Dayton, OH 45405 | Jim McCarthy, 937-223-6035 | 5 | 325,000.00
Greater New Orleans Fair Housing Action Center, Inc., 404 South Jefferson Davis Parkway, New Orleans, LA 70119 | James Perry, 504-596-2100 | 6 | 325,000.00
California Rural Legal Assistance, Inc., 631 Howard Street, Suite 300, San Francisco, CA 94105 | Austa Wakily, 530-742-0694 | 9 | 250,000.00
Private Enforcement Initiative/Multi-Year Component
Fair Housing Center of Greater Boston, 59 Temple Place, Boston, MA 02111-1344 | Tracy Brown, 617-399-0491 | 1 | 325,000.00
Vermont Legal Aid, Inc., 264 North Winooski Avenue, Burlington, Vermont 05402 | Rachel Batterson, 802-863-5620 | 1 | 324,987.00
Fair Housing Council of Central New York, Inc., 327 W. Fayette Street, Syracuse, NY 13202 | Merrilee Witherell, 315-471-0420 | 2 | 322,025.00
Fair Housing Justice Center, Inc., 5 Hanover Square, 17th Floor, New York, NY 10004 | Fred Freiberg, 212-400-8232 | 2 | 324,999.00
Housing Opportunities Made Equal Inc., 700 Main Street, 3rd Floor, Buffalo, NY 14202 | Scott Gehl, 716-854-1400 | 2 | 308,167.00
Legal Services NYC Staten Island, 36 Richmond Terrace, Staten Island, NY 10301 | Nancy Goldhill, 718-233-6490 | 2 | 325,000.00
National Fair Housing Alliance, 1101 Vermont Avenue NW., Washington, DC 20005 | Catherine Cloud, 202-898-1661 | 3 | 325,000.00
Community Legal Aid Society, Inc., 100 West 10th Street, Suite 801, Wilmington, DE 1980 | Teresa Cheek, 302-575-0660 | 3 | 306,998.00
Baltimore Neighborhoods, Inc., 2530 N. Charles Street, Baltimore, MD 21218 | Elijah Etheridge, 410-243-4468 | 3 | 324,411.00
Fair Housing Council of Suburban Philadelphia, Inc., 455 Maryland Drive, Suite 190, Fort Washington, PA 19034 | James Berry, 267-419-8918 | 3 | 324,877.00
Fair Housing Right Center in Southeastern Pennsylvania, 105 E. Glenside Avenue, Suite E, Glenside, PA 19038 | Angela McIver, 215-576-7711 | 3 | 324,000.00
Southwestern Pennsylvania Legal Services, Inc., 10 West Cherry Ave., Washington, PA 15301 | Robert Brenner, 724-225-6170 | 3 | 325,000.00
Bay Area Legal Services, Inc., 829 W. Dr. MLK, Jr., Blvd., Suite 200, Tampa, FL 33603 | Richard Woltmann, 813-232-1222 | 4 | 292,920.00
Community Legal Services of Mid-Florida, Inc., 128 Orange Avenue, Daytona Beach, FL 32114 | Suzanne Edmunds, 386-255-6573 | 4 | 325,000.00
Fair Housing Continuum, Inc., 4760 N. Hwy. US1, Suite 203, Melbourne, FL 32935 | David Baade, 321-757-3532 | 4 | 320,667.00
Jacksonville Area Legal Aid, Inc., 126 West Adams Street, Jacksonville, FL 32202 | Michael Figgins, 904-356-8371 | 4 | 324,902.00
Legal Aid Society of Palm Beach County, Inc., 423 Fern Street, Suite 200, West Palm Beach, FL 33401 | Robert Bertisch, 561-655-8944 | 4 | 313,246.00
Lexington Fair Housing Council, Inc., 207 E. Reynolds Road, Suite 130, Lexington, KY 40517 | Arthur Crosby, 859-971-8067 | 4 | 296,996.00
West Tennessee Legal Services, Inc., 210 West Main Street, Jackson, TN 38301 | John Xanthopoulos, 731-426-1311 | 4 | 325,000.00
HOPE Fair Housing Center, 2100 Manchester Road, C-1620, Wheaton, IL 60187 | Shirley Stacy, 630-690-6500 | 5 | 324,020.00
South Suburban Housing Center, 18220 Harwood Avenue, Suite 1, Homewood, IL 60430 | John Petruszak, 708-957-4674 | 5 | 324,775.00
Fair Housing Center of Metropolitan Detroit, 220 Bagley Street, Suite 1020, Detroit, MI 48226 | Clifford Schrupp, 313-963-1274 | 5 | 299,525.00
Fair Housing Center of Southeastern Michigan, P.O. Box 7825, Ann Arbor, MI 48107 | Pamela Kisch, 734-994-3426 | 5 | 275,765.00
Fair Housing Center of West Michigan, 20 Hall Street SE., Grand Rapids, MI 49507 | Nancy Haynes, 616-451-2980 | 5 | 325,000.00
Legal Services of Eastern Michigan, 436 S. Saginaw Street, Suite 101, Flint, MI 48502 | Teresa Trantham, 810-234-2621 | 5 | 266,448.00
Fair Housing Contact Services, Inc., 441 Wolf Ledges Parkway, Suite 200, Akron, OH 44311 | Tamala Skipper, 330-376-6191 | 5 | 325,000.00
Fair Housing Resource Center, Inc., 1100 Mentor Avenue, Painesville, OH 44077 | Patricia Kidd, 440-392-0147 | 5 | 325,000.00
Miami Valley Fair Housing Center, Inc., 21 East Babbitt Street, Dayton, OH 45405 | Jim McCarthy, 937-223-6035 | 5 | 325,000.00
Metropolitan Milwaukee Fair Housing Council, Inc., 600 East Mason Street, Milwaukee, WI 53202 | William Tisdale, 414-278-1240 | 5 | 322,629.00
Greater New Orleans Fair Housing Action Center, Inc., 404 South Jefferson Davis Parkway, New Orleans, LA 70119 | James Perry, 504-596-2100 | 6 | 325,000.00
San Antonio Fair Housing Council, Inc., 4414 Centerview Drive, Suite 229, San Antonio, TX 78228 | Sandra Tamez, 210-733-3247 | 6 | 325,000.00
Family Housing Advisory Services, Inc., 2401 Lake Street, Omaha, NE 68111 | Joseph Garcia, 402-934-6669 | 7 | 325,000.00
Montana Fair Housing, Inc., 519 East Front Street, Butte, MT 59701 | Pamela Bean, 406-782-2573 | 8 | 167,900.00
Arizona Fair Housing Center, 615 N. 5th Avenue, Phoenix, AZ 85003 | Edward Valenzuela, 602-548-1599 | 9 | 320,001.00
Fair Housing Council of Central California, 333 W. Shaw Avenue, Suite 14, Fresno, CA 93704 | Marilyn Borelli, 559-244-2950 | 9 | 259,034.00
Greater Napa Fair Housing Center, 603 Cabot Way, Napa, CA 94559 | Nicole Collier, 707-224-9720 | 9 | 309,000.00
Southern California Housing Rights Center, 520 South Virgil Avenue, Suite 400, Los Angeles, CA 90020 | Chancela Al-Mansour, 213-387-8400 | 9 | 324,980.00
Legal Aid Society of Hawaii, 924 Bethel Street, Honolulu, HI 96813 | Elise Von Dohlen, 808-527-8056 | 9 | 325,000.00
Silver State Fair Housing Council, 855 E. Forth Street, Suite E, Reno, NV 89512 | Katherine Knister, 775-324-0990 | 9 | 325,000.00
Fair Housing Center of Washington, 1517 South Fawcett, Suite 250, Tacoma, WA 05402 | Lauren Walker, 253-274-9523 | 10 | 325,000.00
Private Enforcement Initiative/Performance Base Component
Pine Tree Legal Assistance, 88 Federal Street, Portland, ME 04112 | Nan Heald, 207-774-4753 | 1 | 325,000.00
Legal Assistance Corporation of Central Massachusetts, 405 Main Street, Worcester, MA 01608 | Jonathan Mannina, 508-752-3718 | 1 | 237,933.00
Housing Discrimination Project, 57 Suffolk Street, Holyoke, MA 01040 | Meris Bergquist, 413-539-9796 | 1 | 325,000.00
Fair Housing Council of Northern New Jersey, 131 Main Street, Suite 140, Hackensack, NJ 07601 | Lee Porter, 201-489-3552 | 2 | 325,000.00
Legal Assistance of Western NY, Inc., 1 West Main Street, Rochester, NY 14614 | Louis Prieto, 585-295-5610 | 2 | 277,000.00
South Brooklyn Legal Services, Inc., 105 Court Street, Brooklyn, NY 11201-5658 | Meghan Faux, 718-246-3276 | 2 | 325,000.00
Long Island Housing Services, 640 Johnson Avenue, Suite 8, Bohemia, NY 11716-2624 | Michelle Santantonio, 631-567-5111 | 2 | 275,000.00
Equal Rights Center, 11 Dupont Circle NW., Suite 450, Washington, DC 20036 | Chip Underwood, 202-370-3228 | 3 | 325,000.00
Fair Housing Partnership of Greater Pittsburgh, 2840 Liberty Avenue, Ste. 205, Pittsburgh, PA 15222 | Peter Harvey, 412-391-2535 | 3 | 275,000.00
Central Alabama Fair Housing Center, 1817 West Second Street, Montgomery, AL 36106 | Faith Cooper, 334-263-4663 | 4 | 274,000.00
Fair Housing Center of Northern Alabama, 1728 3rd Avenue, North, 400 C, Birmingham, AL 35203 | Lila Hackett, 205-324-0111 | 4 | 275,000.00
Mobile Fair Housing Center, Inc., P.O. Box 161202, Mobile, AL 36616 | Teresa Bettis, 251-479-1532 | 4 | 275,000.00
Metro Fair Housing Services, Inc., 1514 East Cleveland, East Point, GA 30344 | Foster Corbin, 404-221-0874 | 4 | 275,000.00
Housing Opportunities Project for Excellence, Inc., 18441 NW 2nd Avenue, Suite 218, Miami Gardens, FL 33169 | Keenya Robertson, 305-651-4673 | 4 | 325,000.00
Housing Opportunities Made Equal of Greater Cincinnati, Inc., 2400 Reading Road, Suite 118, Cincinnati, OH 45202-1458 | Elizabeth Brown, 513-721-4663 | 5 | 324,359.00
Legal Aid Society of Minneapolis, 430 First Avenue North, Suite 300, Minneapolis, MN 55401 | Lisa Cohen, 612-746-3770 | 5 | 325,000.00
Fair Housing Center of Southwest Michigan, 410 E. Michigan, Kalamazoo, MI 49007 | Robert Ells, 269-276-9100 | 5 | 302,766.00
Housing Research & Advocacy Center, 3631 Perkins Ave., Suite 3A-2, Cleveland, OH 44114 | Jeffrey Dillman, 216-361-9240 | 5 | 325,000.00
Chicago Lawyers' Committee for Civil Rights Under Law, Inc., 100 North LaSalle Street, Suite 600, Chicago, IL 60602 | Jay Readey, 312-630-9744 | 5 | 325,000.00
Access Living of Metropolitan Chicago, 115 West Chicago Avenue, Chicago, IL 60654 | Jason Gilmore, 312-640-2185 | 5 | 325,000.00
Interfaith Housing Center of the Northern Suburbs, 614 Lincoln Avenue, Winnetka, IL 60093 | Gail Schechter, 847-501-5760 | 5 | 235,687.00
John Marshall Law School, 315 S. Plymouth, Chicago, IL 60604 | Michael Seng, 312-987-2397 | 5 | 274,958.33
Fair Housing Opportunities dba Fair Housing Center, 432 North Superior, Toledo, OH 43604 | Michael Marsh, 419-243-6163 | 5 | 275,000.00
Austin Tenants Council Inc., 1640-B East Second St., Suite 150, Austin, TX 78702 | Katherine Stark, 512-474-7007 | 6 | 324,723.00
Metropolitan Fair Housing Council of Oklahoma, Inc., 1500 NE 4th Street, Suite 204, Oklahoma City, OK 73117 | Mary Dulan, 405-232-3247 | 6 | 324,808.00
Greater Houston Fair Housing Center, Inc., P.O. Box 292, Houston, TX 77001 | Daniel Bustamante, 713-641-3247 | 6 | 325,000.00
Metropolitan St. Louis Equal Housing Opportunity Council, 1027 S. Vandeventer Ave 6th Floor, Saint Louis, MO 63110 | Willie Jordan, 314-448-9063 | 7 | 272,614.00
Inland Mediation Board, The City Center Building, 10681 Foothill Blvd., Rancho Cucamor, CA 91730 | Lynne Anderson, 909-984-2254 | 9 | 325,000.00
Fair Housing of Marin, 615 B Street, San Rafael, CA 94901 | Nancy Kenyon, 415-457-5025 | 9 | 324,997.00
Bay Area Legal Aid, 1735 Telegraph Avenue, Oakland, CA 94612 | Jaclyn Pinero, 510-663-4755 | 9 | 325,000.00
Southwest Fair Housing Council, 2030 E Broadway, Tucson, AZ 85719 | Richard Rhey, 520-798-1568 | 9 | 274,309.00
California Rural Legal Assistance, Inc., 531 Howard Street, Suite 300, San Francisco, CA 94105 | Austa Wakily, 530-742-7235 | 9 | 275,000.00
Project Sentinel, Inc., 525 Middlefield, Redwood City, CA 94063 | Ann Marquart, 650-321-6291 | 9 | 273,787.67
Northwest Fair Housing Alliance, 35 W. Main, Spokane, WA 99201 | Marley Hochendoner, 509-209-2667 | 10 | 325,000.00
Fair Housing Council of Oregon, 506 SW 6th Avenue, Suite 1111, Portland, OR 97204 | Moloy Good, 503-223-8197 | 10 | 325,000.00

[FR Doc. 2012-2875 Filed 2-7-12; 8:45 am]

BILLING CODE 4210-67-P